CONSUMER PRODUCT SAFETY COMMISSION

Sunshine Act Meetings

Time and Date: Wednesday, October 7, 2009, 9 a.m.-12 noon.

Place: Hearing Room 420, Bethesda Towers, 4330 East-West Highway, Bethesda, Maryland.

Status: Open to the Public.

Matters To Be Considered: 1. GAO Presentation on Their Report, Better Information and Planning Would Strengthen CPSC 's Oversight of Imported Products.

2. CPSC Staff Presentation on Actions Being Taken to Implement the Recommendations in the GAO Report.

3. CPSA 15j—Status of Substantial Hazard Listing on Drawstrings and Hair Dryers.

4. Status Product Registration Cards.

For a recorded message containing the latest agenda information, call (301) 504-7948.

Contact Person For More Information: Todd A. Stevenson, Office of the Secretary, U.S. Consumer Product Safety Commission, 4330 East West Highway, Bethesda, MD 20814, (301) 504-7923.

Todd A. Stevenson,
Secretary.

[FR Doc. E9-23466 Filed 9-29-09; 8:45 am]

BILLING CODE 6355-01-M